DEPARTMENT OF TRANSPORTATION

Federal Aviation Administration

14 CFR Part 71

[Airspace Docket No. 99-AGL-42]

Modification of Class E Airspace; Marquette, MI; Revocation of Class E Airspace; Sawyer, MI, and K.I. Sawyer, MI

AGENCY: Federal Aviation Administration (FAA), DOT.

ACTION: Final rule; new effective date.

SUMMARY: On December 3, 1999, the FAA published a final rule modifying Class E airspace at Marquette, MI, and revoking the Class E airspace at Sawyer, MI, and K.I. Sawyer, MI. An integral part of this airspace action is the decommissioning of the Marquette (MQT), MI, VHF Omnidirectional Range/Distance Measuring Equipment (VOR/DME) and commissioning of the new Gwinn (GWI), MI, VOR/DME. On February 2, 2000, the effective date of this final rule was delayed until further notice due to the delay in the commissioning, due to construction, of the new Gwinn VOR/DME. The date for commissioning of the GWI VOR/DME is now expected to be August 10, 2000.

EFFECTIVE DATE: The effective date of the final rule published at 64 FR 67713 is 0901 UTC, August 10, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION: On December 3, 1999, the FAA published a final rule modifying Class E airspace at Marquette, MI, and revoking the Class E airspace at Sawyer, MI, and K.I. Sawyer, MI (64 FR 67713). Due to a delay in construction, and subsequent commissioning, of the new Gwinn, MI, VOR/DME this airspace action could not be implemented on the original effective date.

Accordingly, on February 2, 2000, the effective date of the modification of the Class E airspace at Marquette, MI, and the revocation of the Class E airspace at Sawyer, MI, and K.I. Sawyer, MI, was delayed until further notice (65 FR 4871). The commissioning date for the GWI VOR/DME is now expected to be August 10, 2000.

In consideration of the foregoing, the new effective date of the final rule modifying Class E airspace at Marquette, MI, and revoking the Class E airspace at Sawyer, MI, and K.I. Sawyer, MI (64 FR 67713, December 3, 1999) is established as August 10, 2000.

Issued in Des Plaines, Illinois on April 20, 2000.
David B. Johnson,
Acting Manager, Air Traffic Division.

[FR Doc. 00-10916 Filed 5-1-00; 8:45 am]

BILLING CODE 4910-13-M